DEPARTMENT OF JUSTICE

Notice of Lodging of Proposed Second Stipulation and Final Order Under the Resource Conservation and Recovery Act

On February 13. 2024, the Department of Justice lodged a proposed Second Stipulation and Final Order (SSFO) with the United States District Court for the District of Puerto Rico in the lawsuit entitled United States v. Municipality of Toa Alta, Puerto Rico, Civil Action No. 3:21-01087.

The proposed SSFO resolves two issues that the “Stipulation and Preliminary Injunction Order” (SPIO) entered in this matter in August 2022 (Dkt. No. 127-1) did not address: the claim that failure to remove leachate from the Southeast Cell of the Municipality of Toa Alta's (MTA's) landfill constitutes an imminent and substantial endangerment under Section 7003(a) of the Resource Conservation and Recovery Act (“RCRA”), 42 U.S.C. 6973(a), and the claim for civil penalties Section 7003(b) of RCRA, 42 U.S.C. 6973(b). The SSFO requires Toa Alta to remove and dispose of, under Puerto Rico's Department of Natural and Environmental Resources (DNER) oversight, leachate that is pooling on the bottom liner of the landfill's Southeast Cell and to pay a $50,000 civil penalty. The SSFO also converts the SPIO into a permanent injunction order.

The publication of this notice opens a period for public comment on the SSFO. Comments should be addressed to the Assistant Attorney General, Environment and Natural Resources Division, and should refer to United States v. Municipality of Toa Alta, D.J. Ref. No. 90-7-1-12090. All comments must be submitted no later than thirty (30) days after the publication date of this notice. Comments may be submitted either by email or by mail:

To submit comments: | Send them to:
By email | pubcomment-ees.enrd@usdoj.gov
By mail | Assistant Attorney General, U.S. DOJ—ENRD, P.O. Box 7611, Washington, D.C. 20044-7611.

Under section 7003(d) of RCRA, a commenter may request an opportunity for a public meeting in the affected area. Any comments submitted in writing or at a public meeting may be filed by the United States in whole or in part on the public court docket without notice to the commenter.

During the public comment period, the SSFO may be examined and downloaded at this Justice Department website: https://www.justice.gov/enrd/consent-decrees. If you require assistance accessing the SSFO, you may request assistance by email or by mail to the addresses provided above for submitting comments.

Henry Friedman,
Assistant Section Chief, Environmental Enforcement Section, Environment and Natural Resources Division.

[FR Doc. 2024-03504 Filed 2-20-24; 8:45 am]

BILLING CODE 4410-15-P